FEDERAL COMMUNICATIONS COMMISSION

Notice of Public Information Collection(s) Being Submitted for Review to the Office of Management and Budget

January 4, 2007.

SUMMARY: The Federal Communications Commission, as part of its continuing effort to reduce paperwork burden, invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before February 9, 2007. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at 202-395-5167 or via Internet at Allison_E._Zaleski@omb.eop.gov and to Judith-B.Herman@fcc.gov, Federal Communications Commission, Room 1-B441, 445 12th Street, SW., DC 20554 or an email to PRA@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov,

SUPPLEMENTARY INFORMATION: OMB Control Number: 3060-XXXX.

Title: Rural Health Care Support Mechanism.

Form No.: N/A.

Type of Review: New collection.

Respondents: Not-for-profit institutions and state, local and tribal government.

Number of Respondents: 20 respondents; 20 responses.

Estimated Time Per Response: 25 hours.

Frequency of Response: Annual reporting requirement.

Obligation to Respond: Required to obtain or retain benefits.

Total Annual Burden: 500 hours.

Total Annual Cost: N/A.

Privacy Act Impact Assessment: N/A.

Nature and Extent of Confidentiality: There is no need for confidentiality. Respondents may request materials or information submitted to the Commission be withheld from public inspection under 47 CFR 0.459 of the Commission's rules.

Needs and Uses: The Commission will submit this new information collection to OMB during this comment period to obtain the full three-year clearance.

The Commission requests OMB approval to establish a new information collection. The Order, WC Docket No. 02-60, FCC 06-144, at issue establishes a pilot program to assist public and non-profit health care providers build state and region-wide broadband networks dedicated to the provision of health care services, and connect those networks to a dedicated nationwide backbone, such as Internet2. The construction of such networks will bring the benefits of innovative telehealth, and particularly, telemedicine services to those areas of the county where the need for those benefits is most acute. The information collection consists of the application to participate in the pilot program.

The pilot program is designed to encourage health care providers to join together to aggregate the needs and develop a strategy for creating statewide and/or regional networks that will connect numerous health care providers, including rural health care providers, through a dedicated, broadband network. The pilot program will fund up to 85% of the costs incurred to deploy state or regional broadband networks dedicated to health care. The pilot program will also fund up to 85% of the costs of connecting the regional and/or statewide to a dedicated nationwide backbone such as Internet 2, that connects a number of government research instructions, as well as academic, public, and private health care institutions that are repositories of medical expertise and information.

Federal Communications Commission.
Marlene H. Dortch,
Secretary.

[FR Doc. 07-52 Filed 1-9-07; 8:45 am]

BILLING CODE 6712-01-M